NATIONAL AERONAUTICS AND SPACE ADMINISTRATION

[17-044]

NASA Advisory Council; Human Exploration and Operations Committee; Meeting

AGENCY: National Aeronautics and Space Administration.

ACTION: Notice of meeting.

SUMMARY: In accordance with the Federal Advisory Committee Act, as amended, the National Aeronautics and Space Administration (NASA) announces a meeting of the Human Exploration and Operations Committee of the NASA Advisory Council (NAC). This Committee reports to the NAC.

DATES: Monday, July 24, 2017, 10:30 a.m.-5:00 p.m.; and Tuesday, July 25, 2017, 9:00 a.m.-5:15 p.m., Local Time.

ADDRESSES: National Institute of Aerospace, Room 137, 100 Exploration Way, Hampton, VA 23666

FOR FURTHER INFORMATION CONTACT: Dr. Bette Siegel, Executive Secretary, NAC Human Exploration and Operations Committee, NASA Headquarters, Washington, DC 20546, (202) 358-2245, or bette.siegel@nasa.gov.

SUPPLEMENTARY INFORMATION: The meeting will be open to the public up to the seating capacity of the room. This meeting is also available telephonically and by WebEx. You must use a touch-tone phone to participate in this meeting. Any interested person may dial the toll free access number 1-888-324-9238 or toll access number 1-517-308-9132, and then the numeric participant passcode: 3403297 followed by the # sign. The WebEx link is https://nasa.webex.com/, the meeting number is 991 050 585, and the password is Exploration@2017 (case sensitive).

Note: If dialing in, please “mute” your telephone.

The agenda for the meeting includes the following topics:

• Human Exploration and Operations Mission Directorate

• International Space Station

• Exploration Systems Divisions

• Commercial Crew

• Future Human Exploration Plans and Science Opportunities Overview

• Total Solar Eclipse Science

Attendees will be requested to sign a register. It is imperative that the meeting be held on these dates to the scheduling priorities of the key participants.

Carol J. Hamilton,
Acting Advisory Committee Management Officer, National Aeronautics and Space Administration.

[FR Doc. 2017-14118 Filed 7-5-17; 8:45 am]

BILLING CODE 7510-13-P